GENERAL SERVICES ADMINISTRATION

Office of Communications; Cancellation of an Optional Form by the Department of State

AGENCY: Office of Communications, GSA.

ACTION: Notice.

SUMMARY: The Department of State cancelled the following Optional Form because of low usage: OF 126, Foreign Service Residence and Dependency Report.

DATES: Effective October 12, 2001.

FOR FURTHER INFORMATION CONTACT: Mr. Charles Cunningham, Department of State, (202) 312-9605.

Dated: October 2, 2001.
Barbara M. Williams,
Deputy Standard and Optional Forms Management Officer, General Services Administration.

[FR Doc. 01-25744 Filed 10-11-01; 8:45 am]

BILLING CODE 6820-34-M